DEPARTMENT OF JUSTICE

Antitrust Division

Notice Pursuant to the National Cooperative Research and Production Act of 1993—The Institute of Nuclear Materials Management

Notice is hereby given that, on September 20, 2004, pursuant to section 6(a) of the National Cooperative Research and Production Act of 1993, 15 U.S.C. 4301 et seq. (“the Act”), The Institute of Nuclear Materials Management (“INMM”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: The Institute of Nuclear Materials Management, Northbrook, IL. The nature and scope of INMM's standards development activities are: Standards for the packaging and transportation of fissile and radioactive materials, and non-nuclear hazardous materials including waste and mixed waste; but not including movement or handling during processing and manufacturing operations; and standards for protection, control, and accounting of special nuclear materials in all phases of the nuclear fuel cycle, including analytical procedures where necessary and special to this purpose, except that physical protection of special nuclear materials within a nuclear power plant is not included.

Dorothy B. Fountain,
Deputy Director of Operations, Antitrust Division.

[FR Doc. 04-25858 Filed 11-19-04; 8:45 am]

BILLING CODE 4410-11-M